DEPARTMENT OF THE INTERIOR

Bureau of Land Management

[LLWY920000.L14300000.FR0000; WYW-81394]

Notice of Realty Action: Recreation and Public Purposes Act Classification of Public Lands in Sweetwater County, WY

AGENCY: Bureau of Land Management, Interior.

ACTION: Notice.

SUMMARY: The Bureau of Land Management (BLM) has examined and found suitable for classification for conveyance under the provisions of the Recreation and Public Purposes (R&PP) Act, as amended, approximately 120 acres of public land in Sweetwater County, Wyoming. The Sweetwater County Solid Waste District #2 (SCSWD2) proposes to use the land as the Wamsutter Landfill.

DATES: Interested parties may submit comments regarding the proposed conveyance or classification of the lands until June 10, 2013.

ADDRESSES: Send written comments to the Field Manager, Rawlins Field Office, 1300 North Third Street, Rawlins, WY 82301.

FOR FURTHER INFORMATION CONTACT: Dennis Carpenter, Field Manager, Bureau of Land Management, Rawlins Field Office, at 307-328-4201. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In accordance with Section 7 of the Taylor Grazing Act, (43 U.S.C. 315f), and Executive Order No. 6910, the following described public land in Sweetwater County, Wyoming, has been examined and found suitable for classification for conveyance under the provisions of the R&PP Act, as amended, (43 U.S.C. 869 et seq.):

Sixth Principal Meridian, Wyoming

T. 19 N., R. 94 W.,

Sec. 14, N½NE¼, N½S½NE¼.

The land described contains 120.00 acres, more or less.

The following described public land was previously classified for lease only under the R&PP Act on December 14, 1983, and has been leased to the SCSWD2 as the Wamsutter Landfill since July 31, 1984:

Sixth Principal Meridian, Wyoming

T. 19 N., R. 94 W.,

Sec. 14, SE¼NW¼NE¼, NE¼SW¼NE¼, NW¼SE¼NE¼, SW¼NE¼NE¼.

The land described contains 40 acres, more or less.

In accordance with the R&PP Act, the SCSWD2 filed an application for the purchase of the above-described 120 acres of public land, which includes the existing 40 acre lease above, to be developed as the Wamsutter Landfill. The additional 80 acres is to be used for future expansion. Additional detailed information pertaining to this application, plan of development, and site plan is in case file WYW-81394, located in the BLM Rawlins Field Office at the above address.

The land is not needed for any Federal purpose. The conveyance is consistent with the Rawlins Resource Management Plan dated December 2008, and would be in the public interest. The patent, when issued, will be subject to the provisions of the R&PP Act and applicable regulations of the Secretary of the Interior, including, but not limited to the provisions at 43 CFR part 2743, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The patent will be subject to all valid existing rights documented on the official public land records at the time of patent issuance.

On April 24, 2013, the land described above will be segregated from all other forms of appropriation under the public land laws, including the general mining laws, except for conveyance under the R&PP Act, leasing under the mineral leasing laws, and disposals under the mineral material disposal laws.

Classification Comments

Interested parties may submit comments involving the suitability of the land for a landfill. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision to convey under the R&PP Act, or any other factor not directly related to the suitability of the land for R&PP use.

Confidentiality of Comments

Interested parties may submit written comments to the BLM Rawlins Field Manager at the address above. Comments, including names and street addresses of respondents, will be available for public review at the BLM Rawlins Field Office during regular business hours. Before including your address, phone number, email address, or other personal identifying information in your comment, you should be aware that your entire comment—including your personal identifying information—may be made publicly available at any time. While you may ask us in your comment to withhold your personal identifying information from public review, we cannot guarantee that we will be able to do so.

Any adverse comments will be reviewed by the State Director. In the absence of any adverse comments, the classification of the land described in this notice will become effective June 24, 2013. The lands will not be available for conveyance until after the classification becomes effective.

Authority: 43 CFR part 2740.

Donald A. Simpson,
State Director, Wyoming.

[FR Doc. 2013-09668 Filed 4-23-13; 8:45 am]

BILLING CODE 4310-22-P